DEPARTMENT OF LABOR

Office of the Secretary

Submission for OMB Review: Comment Request

March 21, 2008.

The Department of Labor (DOL) hereby announces the submission of the following public information collection request (ICR) to the Office of Management and Budget (OMB) for review and approval in accordance with the Paperwork Reduction Act of 1995 (Pub. L. 104-13, 44 U.S.C. chapter 35). A copy of this ICR, with applicable supporting documentation; including among other things a description of the likely respondents, proposed frequency of response, and estimated total burden may be obtained from the RegInfo.gov Web site at: http://www.reginfo.gov/public/do/PRAMain or by contacting Darrin King on 202-693-4129 (this is not a toll-free number)/e-mail: king.darrin@dol.gov.

Interested parties are encouraged to send comments to the Office of Information and Regulatory Affairs, Attn: OMB Desk Officer for the Employment and Training Administration (ETA), Office of Management and Budget, Room 10235, Washington, DC 20503, Telephone: 202-395-7316/Fax: 202-395-6974 (these are not a toll-free numbers), e-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration.

Type of Review: Revision of a currently approved collection.

Title: One-Stop Workforce Information Grant Plan and Annual Performance Report.

OMB Control Number: 1205-0417.

Form Number: None.

Affected Public: State Governments.

Estimated Number of Respondents: 54.

Estimated Total Annual Burden Hours: 31,174.

Estimated Total Annual Costs Burden: $0.

Description: As requirements for receiving Workforce Information core products and services reimbursable grants, states must submit the following on an annual basis: (1) Certification of grant deliverables, (2) economic analysis economic report for the governor, and (3) performance report. See the Department's regulations at 29 CFR 95.51 and 97.40, sections 111(d)(8) and 309 of the Workforce Investment Act of 1998, and OMB Circular A-102. For additional information, see related notice published at 72 FR 71159 on December 14, 2007.

Darrin A. King,
Acting Departmental Clearance Officer.

[FR Doc. E8-6335 Filed 3-27-08; 8:45 am]

BILLING CODE 4510-FM-P